DEPARTMENT OF COMMERCE

International Trade Administration

[A-570-865]

Certain Hot-Rolled Carbon Steel Flat Products From the People's Republic of China: Preliminary Results of 2010-2011 Antidumping Duty Administrative Review and Intent To Rescind in Part

AGENCY: Import Administration, International Trade Administration, Department of Commerce.

SUMMARY: The Department of Commerce (the “Department”) is conducting an administrative review of the antidumping duty order on certain hot-rolled carbon steel flat products (“hot-rolled steel”) from the People's Republic of China (“PRC”), covering the period of review (“POR”) November 1, 2010 through October 31, 2011. As discussed below, the Department preliminarily determines that the PRC-wide entity made sales in the United States at prices below normal value (“NV”). If these preliminary results are adopted in our final results of review, the Department will instruct U.S. Customs and Border Protection (“CBP”) to assess antidumping duties on entries of subject merchandise during the POR.

DATES: Effective Date: August 1, 2012.

FOR FURTHER INFORMATION CONTACT: Steven Hampton, AD/CVD Operations, Office 9, Import Administration, International Trade Administration, U.S. Department of Commerce, 14th Street and Constitution Avenue NW, Washington DC 20230; telephone (202) 482-0116.

SUPPLEMENTARY INFORMATION:

Background

On November 29, 2001, the Department published in the Federal Register an antidumping duty order on hot-rolled steel from the PRC.¹ On December 30, 2011, the Department published a notice of initiation of an administrative review of the antidumping duty order on hot-rolled steel from the PRC covering the period November 1, 2010, through October 31, 2011, for 18 companies.² Of the 18 companies on which the Department initiated an administrative review, four companies stated that they did not export subject merchandise to the United States during the POR and 14 companies did not certify or apply for a separate rate. The Department addresses the review status of each company below.

¹ See Notice of the Antidumping Duty Order: Certain Hot-Rolled Carbon Steel Flat Products From the People's Republic of China, 66 FR 59561 (November 29, 2001) (“Order”).

² See Initiation of Antidumping and Countervailing Duty Administrative Reviews and Request for Revocation in Part, 76 FR 82268 (December 30, 2011) (“Initiation Notice”). Those companies are: Angang Group International; Baosteel Group Corporation; Baoshan Iron & Steel Co., Ltd.; Bengang Steel Plates Co., Ltd.; Benxi Iron and Steel Group Co., Ltd.; Daye Special Steel Co., Ltd.; Dongbei Special Steel Group; Dongguang Bo Yunte Metal Co., Ltd.; Dongyang Global Strip Steel Co., Ltd.; Haverer Group Ltd.; Hebei Iron and Steel Int'l; Hunan Valin Xiangtan Iron & Steel; Jinan Iron & Steel Co., Ltd.; Shanghai Baosteel International Economic & Trading Co., Ltd.; Shenzhen Zhaoheng Specialty Steel Co.; Union Steel China; Xinyu Iron & Steel Co., Ltd.; and Zhejiang Shenghua Steel Co., Ltd.

Respondent Selection

Section 777A(c)(1) of the Tariff Act of 1930, as amended (“the Act”) directs the Department to calculate individual weighted-average dumping margins for each known exporter or producer of the subject merchandise. However, section 777A(c)(2) of the Act gives the Department discretion to limit its examination to a reasonable number of exporters or producers if it is not practicable to examine all exporters or producers involved in the review.

On January 18, 2012, the Department released CBP data for entries of the subject merchandise during the POR under administrative protective order (“APO”) to all interested parties having access to materials released under an APO, and invited comments regarding the CBP data and respondent selection.³ The Department did not receive any comments regarding the CBP data or respondent selection. On January 24, 2012 the Department received a no-sales certification from Baosteel.⁴ On February 28, 2012, the Department received a no-shipment certification from Hunan Valin Xiangtan Iron & Steel (“Hunan Valin”).⁵ On February 29, 2012 the Department selected Angang International Group (“Angang”) as a mandatory respondent because this company is the only company for which a review was requested that appears in the CBP data as having exported subject merchandise during this POR.⁶ On March 1, 2012, the Department sent an antidumping duty questionnaire to Angang.⁷ The Department did not receive a response or extension request from Angang. On March 23, 2012, the Department stated on the record that the deadline for Angang to submit a response to the Department's questionnaire expired on March 22, 2012 and that the Department did not receive a response or extension request from Angang.⁸ Additionally, the Department confirmed delivery of this questionnaire.⁹

³ See the Department's Letter to All Interested Parties regarding 2010-2011 Administrative Review of the Antidumping Duty Order of Certain Hot-Rolled Carbon Steel Flat Products from the People's Republic of China dated February 29, 2012.

⁴ See Letter from Baosteel Group Corporation, Shanghai Baosteel International Economic & Trading Co., Ltd., and Baoshan Iron & Steel Co., Ltd., (collectively “Baosteel”) to the Secretary of Commerce, regarding Certain Hot-Rolled Carbon Steel Flat Products from the People's Republic of China: No Sales Certification, dated January 24, 2012.

⁵ See Letter from Hunan Valin to the Secretary of Commerce, regarding Certain Hot-Rolled Carbon Steel Flat Products from the People's Republic of China: No Shipment Letter, dated February 28, 2012.

⁶ See Memorandum to James Doyle, Director, Office 9, Import Administration from Steven Hampton, International Trade Compliance Analyst, Office 9, Import Administration regarding 2010-2011 Administrative Review of the Antidumping Duty Order on Certain Hot-Rolled Carbon Steel Flat Products from the People's Republic of China dated February 29, 2012.

⁷ See Department's letter to Angang regarding Certain Hot-Rolled Carbon Steel Flat Products from the People's Republic of China, dated March 1, 2012.

⁸ See Memorandum to Scot Fullerton, Program Manager, Office 9, from Steven Hampton, International Trade Compliance Analyst regarding Certain Hot-Rolled Carbon Steel Flat Products from the People's Republic of China: Documentation to Confirm Receipt of Questionnaire dated March 23, 2012.

⁹ Id.

Scope of the Order

The products covered by the order are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order. Specifically included within the scope of the order are vacuum degassed, fully stabilized (commonly referred to as interstitial-free (“IF”)) steels, high strength low alloy (“HSLA”) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of the order, regardless of definitions in the Harmonized Tariff Schedule of the United States (“HTSUS”), are products in which: i) iron predominates, by weight, over each of the other contained elements; ii) the carbon content is 2 percent or less, by weight; and, iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of the order unless otherwise excluded. The following products, for example, are outside or specifically excluded from the scope of the order:

• Alloy hot-rolled steel products in which at least one of the chemical elements exceeds those listed above (including, e.g., American Society for Testing and Materials (“ASTM”) specifications A543, A387, A514, A517, A506).

• Society of Automotive Engineers (“SAE”)/American Iron & Steel Institute (“AISI”) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to the order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by the order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the written description of the merchandise subject to the order is dispositive.

Intent To Rescind, in Part, of Administrative Review

The Department has preliminarily determined that Baosteel and Hunan Valin did not have shipments of subject merchandise during the POR of this administrative review. The Department received no-shipment certifications from Baosteel and Hunan Valin on January 24, 2012, and February 28, 2012, respectively. To confirm the facts behind these assertions, the Department issued a no-shipment inquiry to CBP requesting that it provide any information that contradicted the no-shipment claims. The Department did not receive any response from CBP, thus indicating that there were no entries of subject merchandise into the United States manufactured and/or shipped by Baosteel or Hunan Valin. Because the evidence on the record indicates that neither Baosteel nor Hunan Valin exported subject merchandise to the United States during the POR, we preliminarily determine that these respondents had no reviewable transactions during this period. With respect to Baosteel, which currently has a separate rate, the Department intends to rescind the review. With respect to Hunan Valin however, we note that it does not have a separate rate. Therefore, Hunan Valin is under review as part of the PRC-wide entity and we will make a determination with respect to the PRC-wide entity at these preliminary results and the final results.

Non-Market Economy Country Status

In every case conducted by the Department involving the PRC, the PRC has been treated as a nonmarket economy (“NME”) country. In accordance with section 771(18)(C)(i) of the Act, any determination that a foreign country is an NME country shall remain in effect until revoked by the administering authority.¹⁰

¹⁰ See, e.g., Preliminary Determination of Sales at Less Than Fair Value and Postponement of Final Determination: Coated Free Sheet Paper from the People's Republic of China, 72 FR 30758, 30760 (June 4, 2007), unchanged in Final Determination of Sales at Less Than Fair Value: Coated Free Sheet Paper from the People's Republic of China, 72 FR 60632 (October 25, 2007).

Separate Rates

In proceedings involving NME countries, it is the Department's practice to begin with a rebuttable presumption that all companies within the country are subject to government control and thus should be assessed a single antidumping duty rate.¹¹ It is the Department's policy to assign all exporters of merchandise subject to review in an NME country this single rate unless an exporter can affirmatively demonstrate that it is sufficiently independent so as to be entitled to a separate rate.¹² Exporters can demonstrate this independence through demonstrating the absence of both de jure and de facto government control over export activities.¹³ The Department analyzes each entity exporting the subject merchandise under a test arising from the Final Determination of Sales at Less Than Fair Value: Sparklers From the People's Republic of China, 56 FR 20588, 20589 (May 6, 1991) (“Sparklers”), as amplified by Notice of Final Determination of Sales at Less Than Fair Value: Silicon Carbide From the People's Republic of China, 59 FR 22585, 22586-87 (May 2, 1994) (“Silicon Carbide”). However, if the Department determines that a company is wholly foreign-owned or located in a market economy (“ME”), then a separate rate analysis is not necessary to determine whether it is free of government control.

¹¹ See, e.g., Notice of Final Determination of Sales at Less Than Fair Value, and Affirmative Critical Circumstances, In Part: Certain Lined Paper Products From the People's Republic of China, 71 FR 53079, 53082 (September 8, 2006); Final Determination of Sales at Less Than Fair Value and Final Partial Affirmative Determination of Critical Circumstances: Diamond Sawblades and Parts Thereof from the People's Republic of China, 71 FR 29303, 29307 (May 22, 2006) (“Diamond Sawblades”).

¹² See, e.g., Diamond Sawblades, 71 FR at 29307.

¹³ Id.

The only mandatory respondent in this review, Angang, did not submit a separate rate application or certification. Moreover, Angang did not submit a full response to the Department's questionnaire, including sections related to its separate rate eligibility. Therefore, because Angang did not demonstrate its eligibility for separate rate status, the Department preliminarily finds that it is not separate from the PRC-wide entity. The remaining companies included in the Initiation Notice did not submit separate rate applications or certifications. There are, therefore, no respondents for which to calculate a separate rate in this administrative review.

PRC-Wide Entity

Upon initiation of the administrative review, the Department provided the opportunity for all companies upon which the review was initiated to complete either the separate-rates application or certification.¹⁴

¹⁴ See Initiation Notice, 76 FR at 82269.

As stated above in the “Separate Rates” section of this notice, the Department has preliminarily determined that Angang failed to demonstrate its eligibility for a separate rate and is thus properly considered not to be separate from PRC-wide entity. As explained above in the “Separate Rates” section, all companies within the PRC are considered to be subject to government control unless they are able to demonstrate an absence of government control with respect to their export activities. Accordingly, such companies are assigned a single antidumping duty rate distinct from the separate rate(s) determined for companies that are found to be free of government control with respect to their export activities. In this regard, we note that no party has submitted evidence in this proceeding to demonstrate that such government influence is no longer present or that our treatment of the PRC-wide entity is otherwise incorrect.

Facts Otherwise Available

Section 776(a) of the Act mandates that the Department use facts otherwise available if necessary information is not otherwise available on the record of the antidumping proceeding. Specifically, section 776(a)(2) of the Act provides that where an interested party: (A) Withholds information that has been requested by the Department; (B) fails to provide requested information by the requested date or in the form and manner requested; (C) significantly impedes an antidumping proceeding; or (D) provides such information but the information cannot be verified, the Department shall use facts otherwise available in reaching its determination.

Angang did not respond to the antidumping questionnaire issued by the Department on March 1, 2012. As such, because the PRC-wide entity, which includes Angang, provided the Department with no data from which it could calculate a margin, the Department finds that necessary information to calculate a margin is not available on the record of this proceeding. The Department finds that because Angang, as part of the PRC-wide entity, failed to submit any response to the Department's questionnaire, the PRC-wide entity withheld requested information, failed to provide the information in a timely manner and in the form requested, and significantly impeded this proceeding, pursuant to sections 776(a)(2)(A), (B), and (C) of the Act. On this basis, the Department finds that it must rely on the facts otherwise available to determine a margin for the PRC-wide entity in accordance with section 776(a) of the Act.¹⁵

¹⁵ See Non-Malleable Cast Iron Pipe Fittings from the People's Republic of China: Final Results of Antidumping Duty Administrative Review, 71 FR 69546 (December 1, 2006), and accompanying Issues and Decision Memorandum at Comment 1.

Adverse Facts Available

Section 776(b) of the Act states that if the Department “finds that an interested party has failed to cooperate by not acting to the best of its ability to comply with a request for information from the administering authority * * * the administering authority * * * may use an inference that is adverse to the interests of the party in selecting from among the facts otherwise available.”¹⁶ Adverse inferences are appropriate to “ensure that the party does not obtain a more favorable result by failing to cooperate than if it had cooperated fully.” ¹⁷ In selecting an adverse inference, the Department may rely on information derived from the petition, the final determination in the investigation, any previous review, or any other information placed on the record.¹⁸

¹⁶ See also Statement of Administrative Action accompanying the Uruguay Round Agreements Act, H.R. Doc. 103-316 at 870 (1994) (“SAA”).

¹⁷ Id.

¹⁸ See section 776(b) of the Act.

The Department determines that by failing to respond to the Department's questionnaire, the PRC-wide entity, which includes Angang, has failed to cooperate to the best of its ability in providing the requested information. Accordingly, pursuant to sections 776(a)(2)(A), (B), and (C) and section 776(b) of the Act, we find it appropriate to apply a margin to the PRC-wide entity based entirely on the facts available, and to apply an adverse inference.¹⁹ By doing so, we ensure that the PRC-wide entity, which includes Angang, will not obtain a more favorable result by failing to cooperate than had it cooperated fully in this review. Therefore, we are assigning the PRC-wide entity, which includes Angang, a rate of 90.83 percent, the highest-rate and the only rate ever determined for the PRC-wide entity on the record of this proceeding.²⁰

¹⁹ See Certain Frozen Warmwater Shrimp From the Socialist Republic of Vietnam: Preliminary Results of the First Administrative Review and New Shipper Review, 72 FR 10689, 10692 (March 9, 2007) (decision to apply total AFA to the NME-wide entity), unchanged in Certain Frozen Warmwater Shrimp From the Socialist Republic of Vietnam: Final Results of the First Antidumping Duty Administrative Review and First New Shipper Review, 72 FR 52052 (September 12, 2007).

²⁰ See Final Determination of Sales at Less Than Fair Value: Certain Hot-Rolled Carbon Steel Flat Products From the People's Republic of China, 66 FR 49632 (September 28, 2001) (“Hot-Rolled Steel Final Determination”)

Corroboration

Section 776(c) of the Act requires that, where the Department relies on secondary information in selecting adverse facts available (“AFA”), the Department corroborate such information to the extent practicable. To be considered corroborated, the Department must find the information has probative value, meaning that the information must be both reliable and relevant.²¹

²¹ See SAA at 870; Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997).

The Department considers the AFA rate calculated for the current review as both reliable and relevant. On the issue of reliability, the Department calculated the rate for a mandatory respondent (i.e., for Benxi Iron & Steel Group Co., Ltd.) in the less than fair value (“LTFV”) investigation.²² No information has been presented in the current review that calls into question the reliability of this information. With respect to the relevance, the Department will consider information reasonably at its disposal to determine whether a margin continues to have relevance. Where circumstances indicate that the selected margin is not appropriate as AFA, the Department will disregard the margin and determine an appropriate margin. For example, in Fresh Cut Flowers from Mexico the Department disregarded the highest margin in that case as best information available (the predecessor to AFA) because the margin was based on another company's uncharacteristic business expense resulting in an unusually high margin.²³ The information used in calculating this margin was based on sales and production data submitted by a mandatory respondent, Benxi Iron & Steel Group Co., Ltd., in the LTFV investigation, together with the most appropriate surrogate value information available on the record in the LTFV investigation.²⁴ Finally, there is no information on the record of this review that demonstrates that this rate is not appropriate for use as AFA. For all these reasons, we determine that this rate continues to have relevance with respect to the PRC-wide entity, including Angang.

²² See Hot-Rolled Steel Final Determination, 66 FR at 49633.

²³ See Fresh Cut Flowers From Mexico; Final Results of Antidumping Duty Administrative Review, 61 FR 6812, 6814 (February 22, 1996) (“Fresh Cut Flowers from Mexico”).

²⁴ See Notice of Preliminary Determination of Sales at Less Than Fair Value: Certain Hot-Rolled Carbon Steel Flat Products From the People's Republic of China, 66 FR 22183 (May 3, 2001), unchanged in Hot-Rolled Steel Final Determination, 66 FR at 49633.

As the 90.83 percent AFA rate is both reliable and relevant, we determine that it has probative value and is corroborated to the extent practicable, in accordance with section 776(c) of the Act. Therefore, we have assigned this AFA rate of 90.83%, as established in the investigation, to exports of the subject merchandise by PRC-wide entity, including Angang.²⁵

²⁵ The PRC-wide entity includes, Angang; Bengang Steel Plates Co., Ltd.; Benxi Iron and Steel Group Co., Ltd.; Daye Special Steel Co., Ltd.; Dongbei Special Steel Group; Dongguang Bo Yunte Metal Co., Ltd.; Dongyang Global Strip Steel Co., Ltd.; Haverer Group Ltd.; Hebei Iron and Steel Int'l; Hunan Valin; Jinan Iron & Steel Co., Ltd.; Shenzhen Zhaoheng Specialty Steel Co.; Union Steel China; Xinyu Iron & Steel Co., Ltd., and Zhejiang Shenghua Steel Co., Ltd.

Public Comment

Interested parties who wish to request a hearing, or to participate if one is requested, must submit a written request to the Assistant Secretary for Import Administration, U.S. Department of Commerce, filed electronically using Import Administration's Antidumping and Countervailing Duty Centralized Electronic Service System (IA ACCESS). An electronically filed hearing request must be received successfully in its entirety by the Department's electronic records system, IA ACCESS, by 5 p.m. Eastern Time within 30 days after the date of publication of this notice.²⁶ Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined.²⁷ Parties should confirm by telephone the date, time, and location of the hearing.

²⁶ See 19 CFR 351.310(c).

²⁷ See 19 CFR 351.310.

Interested parties are invited to comment on the preliminary results of this review within 30 days after the date of publication of this notice in the Federal Register.²⁸ Interested parties may file rebuttal briefs, limited to issues raised in the case briefs not later than five days after the time limit for filing case briefs.²⁹ Parties who submit arguments are requested to submit with each argument a statement of the issue, a brief summary of the argument, and a table of authorities cited. The Department intends to issue the final results of this administrative review, including the results of our analysis of issues raised in the written comments, within 120 days of publication of these preliminary results in the Federal Register.³⁰

²⁸ See 19 CFR 351.309(c)(1)(ii).

²⁹ See 19 CFR 351.309(d).

³⁰ See section 751(a)(3)(A) of the Act.

Assessment Rates

Upon issuance of the final results, the Department will determine, and CBP shall assess, antidumping duties on all appropriate entries covered by this review.³¹ The Department intends to issue assessment instructions to CBP 15 days after the publication date of the final results of this review. We will instruct CBP to assess duties at the ad valorem margin rate published above. We will instruct CBP to assess antidumping duties on all appropriate entries covered by this review if any assessment rate calculated in the final results of this review is above de minimis. The final results of this review shall be the basis for the assessment of antidumping duties on entries of merchandise covered by the final results of this review and for future deposits of estimated duties, where applicable.

³¹ See 19 CFR 351.212(b).

Cash Deposit Requirements

The following cash deposit requirements will be effective upon publication of the final results of this administrative review for shipments of the subject merchandise from the PRC entered, or withdrawn from warehouse, for consumption on or after the publication date, as provided by sections 751(a)(2)(C) of the Act: (1) For Angang, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be the PRC-wide rate of 90.83 percent; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: July 26, 2012.
Paul Piquado,
Assistant Secretary for Import Administration.

[FR Doc. 2012-18831 Filed 7-31-12; 8:45 am]

BILLING CODE 3510-DS-P